NUCLEAR REGULATORY COMMISSION

[NRC-2022-0149]

Placement of the Mississippi Agreement State Program on Probation

AGENCY: Nuclear Regulatory Commission.

ACTION: Notice of the Mississippi Agreement State Program being placed on probation.

SUMMARY: The U.S. Nuclear Regulatory Commission (NRC) is announcing the placement of the Mississippi Agreement State Program (Mississippi Program) for the regulation of certain Atomic Energy Act of 1954, as amended, materials on Probation. The NRC is further increasing its oversight of the Mississippi Program and will oversee implementation of a Program Improvement Plan developed by the Mississippi Program's staff. The NRC Chairman notified the Governor of Mississippi of this decision in a letter dated September 26, 2022. Depending on the progress of the Agreement State in meeting the commitments in the Program Improvement Plan and demonstration of significant and sustained improvements in program performance, the Management Review Board (MRB) Chair will make a recommendation to the Commission on the probationary status. The NRC will make further announcements regarding the status of the Mississippi Program, as appropriate.

DATES: October 4, 2022.

ADDRESSES: Please refer to Docket ID NRC-2022-0149 when contacting the NRC about the availability of information regarding this document. You may obtain publicly available information related to this document using any of the following methods:

• Federal Rulemaking Website: Go to https://www.regulations.gov and search for Docket ID NRC-2022-0149. Address questions about Docket IDs in Regulations.gov to Stacy Schumann; telephone: 301-415-0624; email: Stacy.Schumann@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays

FOR FURTHER INFORMATION CONTACT: Robert Johnson, Office of Nuclear Material Safety and Safeguards, U.S. Nuclear Regulatory Commission, Washington, DC 20555, telephone: 301-415-7314, email: Robert.Johnson@nrc.gov.

SUPPLEMENTARY INFORMATION: Under section 274 of the Atomic Energy Act of 1954, as amended, the Commission retains the authority and the responsibility to assure that Agreement State programs continue to provide adequate protection of public health and safety, and to be compatible with the NRC's program with respect to the regulation of the materials and uses authorized under the Agreement. Agreement States are States that have assumed regulatory authority from the NRC over the possession and use of certain radioactive materials. The Commission Policy Statement, “Agreement State Program Policy Statement” established the option of placing an Agreement State radiation control program on Probation for program weaknesses that require increased NRC oversight.

Section 274j of the Atomic Energy Act of 1954, as amended, requires that the NRC periodically review each Agreement State to ensure that the Agreement State's regulatory programs are adequate and compatible. It is the policy of the NRC to evaluate the radiation control programs performance in an integrated manner, using performance indicators, to ensure that public health and safety is being adequately protected. The periodic review process for an Agreement State regulatory program and the NRC radioactive materials program is called the Integrated Materials Performance Evaluation Program (IMPEP).

The MRB Chair makes the final determination regarding a radiation control program's overall performance. The MRB Chair makes this determination in a public meeting. Information considered by the MRB Chair includes the proposed final IMPEP report which presents suggested performance indicator ratings and recommendations prepared by the team, input from MRB members, and information provided by the radiation control program at the MRB meeting. For most IMPEP reviews, no action other than issuance of the final IMPEP report is needed. For those infrequent reviews where additional action is needed, the MRB Chair may consider Monitoring, Heightened Oversight, and recommendations for Probation, Suspension, or Termination. The most significant actions—Probation, Suspension, or Termination—require Commission approval.

The MRB Chair found the Mississippi Program's overall performance adequate to protect public health and safety, but needs improvement, and not compatible with the NRC's program. The MRB Chair found the Mississippi Program satisfactory, but needs improvement, for two performance indicators: Technical Staffing and Training and Legislation, Regulations, and Other Program Elements. The MRB Chair found the Mississippi Program unsatisfactory for four performance indicators: Status of Materials Inspection Program, Technical Quality of Licensing Actions, Technical Quality of Inspections, and Technical Quality of Incident and Allegation Activities. The MRB Chair recommended that the Mississippi Program be placed on Probation due to the significant performance issues identified. The Commission considered the Mississippi Program's performance and agreed that the Mississippi Program should be placed on Probation.

In cases where program weaknesses exist regarding the adequacy or compatibility of an Agreement State's program, yet the weaknesses do not require immediate action to protect public health and safety, one of the options available to ensure continued protection of public health and safety is to place the Agreement State on Probation. The Mississippi Program's progress in addressing the program weaknesses will be evaluated in February 2023 by an IMPEP review team. Depending on the progress of the Agreement State in meeting the commitments in the Program Improvement Plan and demonstration of significant and sustained improvements in program performance, the MRB Chair will make a recommendation to the Commission on the probationary status.

If the Commission determines that the probationary status will be lifted, notification of discontinuance of Probation will be made to the Governor of Mississippi, the Mississippi Congressional delegation, and all other Agreement and Non-Agreement States. The NRC will also publish a Federal Register notice and a press release announcing the discontinuance of the Mississippi Program's Probation.

Dated: September 28, 2022.
For the Nuclear Regulatory Commission.
Kevin Williams,
Director, Division of Materials Safety, Security, State, and Tribal Programs, Office of Material Safety and Safeguards.

[FR Doc. 2022-21443 Filed 10-3-22; 8:45 am]

BILLING CODE 7590-01-P